DEPARTMENT OF THE INTERIOR

Fish and Wildlife Service

[FWS-HQ-IA-2013-N236; FXIA16710900000P5-123-FF09A30000]

Endangered Species; Marine Mammals; Receipt of Applications for Permit

AGENCY: Fish and Wildlife Service, Interior.

ACTION: Notice of receipt of applications for permit.

SUMMARY: We, the U.S. Fish and Wildlife Service, invite the public to comment on the following applications to conduct certain activities with endangered species, marine mammals, or both. With some exceptions, the Endangered Species Act (ESA) and Marine Mammal Protection Act (MMPA) prohibits activities with listed species unless Federal authorization is acquired that allows such activities.

DATES: We must receive comments or requests for documents on or before December 2, 2013. We must receive requests for marine mammal permit public hearings, in writing, at the address shown in the ADDRESSES section by December 2, 2013.

ADDRESSES: Brenda Tapia, Division of Management Authority, U.S. Fish and Wildlife Service, 4401 North Fairfax Drive, Room 212, Arlington, VA 22203; fax (703) 358-2280; or email DMAFR@fws.gov.

FOR FURTHER INFORMATION CONTACT: Brenda Tapia, (703) 358-2104 (telephone); (703) 358-2280 (fax); DMAFR@fws.gov (email).

SUPPLEMENTARY INFORMATION:

I. Public Comment Procedures

A. How do I request copies of applications or comment on submitted applications?

Send your request for copies of applications or comments and materials concerning any of the applications to the contact listed under ADDRESSES. Please include the Federal Register notice publication date, the PRT-number, and the name of the applicant in your request or submission. We will not consider requests or comments sent to an email or address not listed under ADDRESSES. If you provide an email address in your request for copies of applications, we will attempt to respond to your request electronically.

Please make your requests or comments as specific as possible. Please confine your comments to issues for which we seek comments in this notice, and explain the basis for your comments. Include sufficient information with your comments to allow us to authenticate any scientific or commercial data you include.

The comments and recommendations that will be most useful and likely to influence agency decisions are: (1) Those supported by quantitative information or studies; and (2) Those that include citations to, and analyses of, the applicable laws and regulations. We will not consider or include in our administrative record comments we receive after the close of the comment period (see DATES) or comments delivered to an address other than those listed above (see ADDRESSES).

B. May I review comments submitted by others?

Comments, including names and street addresses of respondents, will be available for public review at the street address listed under ADDRESSES. The public may review documents and other information applicants have sent in support of the application unless our allowing viewing would violate the Privacy Act or Freedom of Information Act. Before including your address, phone number, email address, or other personal identifying information in your comment, you should be aware that your entire comment—including your personal identifying information—may be made publicly available at any time. While you can ask us in your comment to withhold your personal identifying information from public review, we cannot guarantee that we will be able to do so.

II. Background

To help us carry out our conservation responsibilities for affected species, and in consideration of section 10(a)(1)(A) of the Endangered Species Act of 1973, as amended (16 U.S.C. 1531 et seq.), and the Marine Mammal Protection Act of 1972, as amended (16 U.S.C. 1361 et seq.), along with Executive Order 13576, “Delivering an Efficient, Effective, and Accountable Government,” and the President's Memorandum for the Heads of Executive Departments and Agencies of January 21, 2009—Transparency and Open Government (74 FR 4685; January 26, 2009), which call on all Federal agencies to promote openness and transparency in Government by disclosing information to the public, we invite public comment on these permit applications before final action is taken. Under the MMPA, you may request a hearing on any MMPA application received. If you request a hearing, give specific reasons why a hearing would be appropriate. The holding of such a hearing is at the discretion of the Service Director.

III. Permit Applications

A. Endangered Species

Applicant: Wildlife Conservation Society, New York, NY; PRT-15467B

The applicant requests a permit to import two captive-bred female snow leopards (Uncia uncia) from Zoo Wuppertal and Tiergarten de Stadt, Germany, to the Bronx Zoo for the purpose of enhancement of propagation and survival of the species.

Applicant: U.S. Fish and Wildlife Service, Mexican Wolf Reintroduction Project, Region 2, Albuquerque, NM, PRT-104074

The applicant requests renewal of their permit to export and re-export live Mexican or lobo wolves (Canis lupus baileyi) for breeding and reintroduction, as well as the export and re-export of biological samples for genetic studies, for the purpose of enhancement of the survival of the species and scientific research. This notification covers activities to be conducted by the applicant over a 5-year period.

Applicant: Linda Pond, Lind, WA; PRT-17878B

The applicant requests a captive-bred wildlife registration under 50 CFR 17.21(g) for golden parakeet (Guarouba guarouba) to enhance the species' propagation or survival. This notification covers activities to be conducted by the applicant over a 5-year period.

Applicant: Hattiesburg Convention Commission (dba Hattiesburg Zoo), Hattiesburg, MS; PRT-18078B

The applicant requests a captive-bred wildlife registration under 50 CFR 17.21(g) for the following species, to enhance the species' propagation or survival. This notification covers activities to be conducted by the applicant over a 5-year period.

Species:

Ring-tailed lemur (Lemur catta)

Black and white ruffed lemur (Varecia variegata)

Red ruffed lemur (Varecia rubra)

Crowned lemur (Eulemur coronatus)

Black lemur (Eulemur macaco)

Brown lemur (Eulemur fulvus)

Cotton-top tamarin (Saguinus oedipus)

Lion-tailed macaque (Macaca silenus)

Lar gibbon (Hylobates lar)

Leopard (Panthera pardus)

Sumatran tiger (Panthera tigris sumatrae)

Baird's tapir (Tapirus bairdii)

Moluccan cockatoo (Cacatua moluccensis)

Galapagos tortoise (Chelonoidis nigra)

Radiated tortoise (Astrochelys radiata)

Yellow-spotted river turtle (Podocnemis unifilis)

Spotted pond turtle (Geoclemys hamiltonii)

Nile crocodile (Crocodylus niloticus)

Applicant: Jordan Mercer, Micanopy, FL; PRT-18705B

The applicant requests a captive-bred wildlife registration under 50 CFR 17.21(g) for radiated tortoise (Astrochelys radiata) to enhance the species' propagation or survival. This notification covers activities to be conducted by the applicant over a 5-year period.

Applicant: Triple S Wildlife Ranch, Calvin, OK; PRT-18877B

The applicant requests a captive-bred wildlife registration under 50 CFR 17.21(g) for scimitar-horned oryx (Oryx dammah) and addax (Addax nasomaculatus) to enhance the species' propagation or survival. This notification covers activities to be conducted by the applicant over a 5-year period.

Applicant: Triple S Wildlife Ranch, Calvin, OK; PRT-18755B

The applicant requests a permit authorizing interstate and foreign commerce, export, and cull of excess scimitar-horned oryx (Oryx dammah) and addax (Addax nasomaculatus) from the captive herd maintained at their facility, for the purpose of enhancement of the survival of the species. This notification covers activities over a 5-year period.

Applicant: Double B River Ranch, Comanche, TX; PRT-15680B

The applicant requests a captive-bred wildlife registration under 50 CFR 17.21(g) for scimitar-horned oryx (Oryx dammah) to enhance the species' propagation or survival. This notification covers activities to be conducted by the applicant over a 5-year period.

Applicant: Double B River Ranch, Comanche, TX; PRT-15681B

The applicant requests a permit authorizing interstate and foreign commerce, export, and cull of excess scimitar-horned oryx (Oryx dammah) from the captive herd maintained at their facility, for the purpose of enhancement of the survival of the species. This notification covers activities over a 5-year period.

Applicant: Tufts University, Medford, MA; PRT-19069B

The applicant requests a permit to import 300 biological samples from captive-held White-breasted thrashers (Ramphocinclus brachyurus) for the purpose of scientific research.

Applicant: Tyler Thomas, Alexandria Bay, NY; PRT-18729B

The applicant requests a captive-bred wildlife registration under 50 CFR 17.21(g) for the following species, to enhance the species' propagation or survival. This notification covers activities to be conducted by the applicant over a 5-year period.

Species:

Woylie (Bettongia penicillata)

Ring-tailed lemur (Lemur catta)

Black and white ruffed lemur (Varecia variegata)

Red ruffed lemur (Varecia rubra)

Cotton-top tamarin (Saguinus oedipus)

Moluccan cockatoo (Cacatua moluccensis)

Golden parakeet (Guarouba guarouba)

Chinese alligator (Alligator sinensis)

Radiated tortoise (Astrochelys radiata)

Applicant: Azlin Taxidermy, Clute, Texas; PRT-02251B

The applicant requests a permit to export the sport-hunted trophies of two scimitar-horned oryx (Oryx dammah) and one addax (Addax nasomaculatus) culled from a captive herd maintained in the state of Texas for the purpose of enhancement of the survival of the species.

Applicant: Azlin Taxidermy, Clute, Texas; PRT-02252B

The applicant requests a permit to export the sport-hunted trophies of one scimitar-horned oryx (Oryx dammah) and one addax (Addax nasomaculatus) culled from a captive herd maintained in the state of Texas for the purpose of enhancement of the survival of the species.

Applicant: Azlin Taxidermy, Clute, Texas; PRT-02253B

The applicant requests a permit to export the sport-hunted trophy of one scimitar-horned oryx (Oryx dammah) culled from a captive herd maintained in the state of Texas for the purpose of enhancement of the survival of the species.

Applicant: Joseph Nabers, Katy, TX; PRT-19040B

The applicant requests a permit to import a sport-hunted trophy of one male bontebok (Damaliscus pygargus pygargus) culled from a captive herd maintained under the management program of the Republic of South Africa, for the purpose of enhancement of the survival of the species.

B. Endangered Marine Mammals and Marine Mammals

Applicant: The Marine Mammal Center, Sausalito, CA; PRT-101713

On November 5, 2012 (77 FR 66476), we published a notice of receipt of this application regarding this applicant's request for a permit to take southern sea otters (Enhydra lutris nereis) of all ages and sexes for the purpose of enhancement of the survival of the species by rescue, rehabilitation, and release of stranded animals. We have received new information and are reopening the comment period. This notification covers activities to be conducted by the applicant over a 5-year period.

Concurrent with publishing this notice in the Federal Register, we are forwarding copies of the above applications to the Marine Mammal Commission and the Committee of Scientific Advisors for their review.

Brenda Tapia,
Program Analyst/Data Administrator, Branch of Permits, Division of Management Authority.

[FR Doc. 2013-25796 Filed 10-30-13; 8:45 am]

BILLING CODE 4310-55-P